DEPARTMENT OF TRANSPORTATION

Federal Aviation Administration

14 CFR Part 39

[Docket No. FAA-2023-1506; Project Identifier MCAI-2023-00784-R; Amendment 39-22512; AD 2023-13-51]

RIN 2120-AA64

Airworthiness Directives; Airbus Helicopters

AGENCY: Federal Aviation Administration (FAA), DOT.

ACTION: Final rule; request for comments.

SUMMARY: The FAA is superseding Airworthiness Directive (AD) 2022-19-08 which applied to all Airbus Helicopters Model SA341G and SA342J helicopters. AD 2022-19-08 was prompted by a report of manufacturing defects on multiple tail rotor blades (TRBs) and required visually inspecting certain part-numbered TRBs for the presence of a linear indication, and, depending on the inspection results, fluorescent penetrant inspecting the TRB and further corrective actions if necessary. AD 2022-19-08 also prohibited installing an affected TRB unless certain requirements had been met. This AD was prompted by the determination that parts that have accumulated more than 500 flight hours (FH) since new are also affected by the unsafe condition. In addition, the defined compliance time for the visual inspection of the root area of each affected part was determined to be too strict. This AD retains certain requirements of AD 2022-19-08, includes all TRBs in the inspection requirements, and increases a compliance time as specified in a European Union Aviation Safety Agency (EASA) AD, which is incorporated by reference. The FAA previously sent this AD as an emergency AD to all known U.S. owners and operators of these helicopters. The FAA is issuing this AD to address the unsafe condition on these products.

DATES: This AD is effective August 8, 2023. Emergency AD 2023-13-51, issued on June 27, 2023, which contained the requirements of this amendment, was effective with actual notice.

The Director of the Federal Register approved the incorporation by reference of a certain publication listed in this AD as of August 8, 2023.

The FAA must receive comments on this AD by September 7, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Material Incorporated by Reference:

• For EASA material incorporated by reference in this final rule, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. Service information that is incorporated by reference is also available in the AD docket at regulations.gov under Docket No. FAA-2023-1506.

Other Related Service Information: For Airbus Helicopters service information identified in this final rule, contact Airbus Helicopters, 2701 North Forum Drive, Grand Prairie, TX 75052; telephone (972) 641-0000 or (800) 232-0323; fax (972) 641-3775; or at airbus.com/helicopters/services/technical-support.html. You may also view this service information at the FAA contact information under Material Incorporated by Reference above.

Examining the AD Docket

You may examine the AD docket at regulations.gov under Docket No. FAA-2023-1506; or in person at Docket Operations between 9 a.m. and 5 p.m., Monday through Friday, except Federal holidays. The AD docket contains this final rule, the EASA AD, any comments received, and other information. The street address for Docket Operations is listed above. Comments will be available in the AD docket shortly after receipt.

FOR FURTHER INFORMATION CONTACT: Dan McCully, Aviation Safety Engineer, FAA, 1600 Stewart Avenue, Suite 410, Westbury, NY 11590; telephone (404) 474-5548; email william.mccully@faa.gov.

SUPPLEMENTARY INFORMATION:

Comments Invited

The FAA invites you to send any written data, views, or arguments about this final rule. Send your comments to an address listed under ADDRESSES. Include “Docket No. FAA-2023-1506; Project Identifier MCAI-2023-00784-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Avenue, Suite 410, Westbury, NY 11590; telephone (404) 474-5548; email william.mccully@faa.gov. Any commentary that the FAA receives that is not specifically designated as CBI will be placed in the public docket for this rulemaking.

Background

The FAA issued AD 2022-19-08, Amendment 39-22177 (87 FR 56865, September 16, 2022) (AD 2022-19-08), for Airbus Helicopters Model SA341G and SA342J helicopters. AD 2022-19-08 was prompted by a report of manufacturing defects on TRBs. AD 2022-19-08 required visually inspecting certain part-numbered TRBs for the presence of a linear indication; and depending on the inspection results, fluorescent penetrant inspecting the TRB and further corrective actions if necessary. AD 2022-19-08 also prohibited installing an affected TRB unless certain requirements had been met, as specified in EASA Emergency AD 2022-0169-E, dated August 12, 2022 (EASA AD 2022-0169-E). The FAA issued AD 2022-19-08 to detect linear indications on a TRB which could result in an in-flight TRB loss, unbalance or damage to the tail or other parts of the helicopter, and subsequent loss of control of the helicopter.

EASA, which is the Technical Agent for the Member States of the European Union, issued EASA AD 2022-0169-E to correct an unsafe condition for Airbus Helicopters Model SA 341 G and SA 342 J (Gazelle) helicopters, all serial numbers. EASA advised that an additional sample of TRBs from different manufacturing batches were visually inspected and further analysis revealed visual linear indications on approximately 75% of the TRBs inspected. EASA further advised that the visual linear indications were positioned at the aerofoil connection radius and perpendicular to the grain flow direction. EASA advised that follow-up dye penetrant inspections confirmed up to 20% of the TRBs were found to be affected and have a high risk for crack propagation. Additionally, EASA advised that the investigation of the root cause of the unsafe condition was still on-going; therefore EASA considered EASA AD 2022-0169-E an immediate protective measure and stated that further action may follow.

Actions Since AD 2022-19-08 Was Issued

Since the FAA issued AD 2022-19-08, EASA superseded EASA AD 2022-0169-E with EASA Emergency AD 2023-0128-E, dated June 26, 2023 (EASA AD 2023-0128-E). EASA advises that after EASA AD 2022-0169-E was issued, it was determined that affected parts that have accumulated more than 500 FH since new are also affected. In addition, the defined compliance time for the visual inspection of the root area of each affected part was determined to be too strict. Consequently, Airbus Helicopters revised its service information accordingly. Superseding EASA AD 2023-0128-E retains most of the requirements of EASA AD 2022-0169-E, adds an inspection of affected parts that accumulated more than 500 FH since new, and amends the compliance time for the visual inspection of affected parts. Additionally, EASA advises that EASA AD 2023-0128-E is (still) considered an interim measure and that further AD action may follow. See EASA AD 2023-0128-E for additional background information.

Related Service Information Under 1 CFR Part 51

EASA AD 2023-0128-E requires, before any cleaning of the TRB, using a lamp (1000 lux) to visually inspect the root area of each affected TRB for the presence of any linear indication; and cleaning certain areas of each TRB and repeating the visual inspection of the TRB for a linear indication. Depending on the inspection results, EASA AD 2023-0128-E requires performing a dye penetrant inspection of the root area of a TRB, and if a linear indication is detected, replacing the affected TRB with a serviceable part. Finally, EASA AD 2023-0128-E prohibits installing an affected TRB on any helicopter after its effective date.

This material is reasonably available because the interested parties have access to it through their normal course of business or by the means identified in the ADDRESSES section.

Other Related Service Information

The FAA reviewed Airbus Helicopters Emergency Alert Service Bulletin (EASB) No. SA341-65.71 for Model SA341G helicopters and non FAA-type certificated military Model SA341B, C, D, E, F, and H helicopters; and EASB No. SA342-65.71 for Model SA342J helicopters and non FAA-type certified military Model SA342K, L, L1, M, M1, and MA helicopters, each Revision 2 and dated June 19, 2023 (co-published as one document). This service information specifies procedures for visually checking the TRB for presence of a linear indication; cleaning the TRB with a lint free rag and solvent and repeating the visual check; performing a fluorescent penetrant inspection if a linear indication is detected; removing and replacing any affected TRB if necessary; and recording compliance with the service information.

FAA's Determination

These helicopters been approved by EASA and are approved for operation in the United States. Pursuant to the FAA's bilateral agreement with the European Union, EASA, its technical representative, has notified the FAA of the unsafe condition described in its emergency AD. The FAA is issuing this AD after evaluating all pertinent information and determining that the unsafe condition exists and is likely to exist or develop on other helicopters of the same type design.

AD Requirements

This AD requires accomplishing the actions specified in EASA AD 2023-0128-E, described previously, which is incorporated by reference, except for any differences identified as exceptions in the regulatory text of this AD and except as discussed under “Differences Between this AD and EASA AD 2023-0128-E.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0128-E is incorporated by reference in this FAA final rule. This AD, therefore, requires compliance with EASA AD 2023-0128-E in its entirety through that incorporation, except for any differences identified as exceptions in the regulatory text of this AD. Using common terms that are the same as the heading of a particular section in EASA AD 2023-0128-E does not mean that operators need comply only with that section. For example, where the AD requirement refers to “all required actions and compliance times,” compliance with this AD requirement is not limited to the section titled “Required Action(s) and Compliance Time(s)” in EASA AD EASA AD 2023-0128-E. Service information referenced in EASA AD 2023-0128-E for compliance will be available at regulations.gov under Docket No. FAA-2023-1506.

Differences Between This AD and EASA AD 2023-0128-E

Although EASA AD 2023-0128-E does not define the phrase “a linear indication,” service information referenced in EASA AD 2023-0128-E defines this phrase as an indication for which the longest dimension is at least three times longer than the smallest one. This AD defines a linear indication as any linear indication perpendicular to the grain direction of the blade that is detected regardless of size. Where EASA AD 2023-0128-E requires performing a dye penetrant inspection, this AD requires a fluorescent penetrant inspection performed by a Level II or Level III inspector certified in the FAA-acceptable standards for nondestructive inspection personnel.

Interim Action

The FAA considers this AD to be interim action.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2023-13-51, issued on June 27, 2023, to all known U.S. owners and operators of these helicopters. The FAA found that the risk to the flying public justified waiving notice and comment prior to adoption of this rule because the affected part is critical to the control of a helicopter. In addition, failure of an affected part can cause the part to depart from the helicopter, thereby causing damage to the helicopter and subsequent loss of control of the helicopter. Also, the FAA has no information pertaining to how quickly the condition may propagate to failure. Investigation is still on-going to determine the root cause of the defect and the number of parts affected by the same condition. In light of this, the initial visual inspection must be accomplished within 10 hours time-in-service. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 22 helicopters of U.S. Registry. There may be up to 13 affected TRBs per helicopter. Labor rates are estimated at $85 per work-hour. Based on these numbers, the FAA estimates the following costs to comply with this AD.

Visually inspecting one TRB for presence of a linear indication takes about 1 work-hour for an estimated cost of $85 per inspection. Visually inspecting each additional TRB takes about 0.1 work-hour for an estimated cost of $9 per inspection. The cost for inspecting each helicopter may be up to $193 and the cost for the U.S. fleet may be up to $4,246.

If required, fluorescent penetrant inspecting a TRB for the presence of a linear indication takes about 2 work-hours for an estimated cost of $170 per inspection.

If required, removing an affected TRB and replacing it with a serviceable TRB takes about 2 work-hours and parts cost about $3,630 for an estimated cost of $3,800 per replacement. Removing each additional affected TRB and replacing it with a serviceable TRB takes about an additional 0.5 work-hour and parts cost about $3,630 for an estimated cost of $3,673 for each additional replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-19-08, Amendment 39-22177 (87 FR 56865, September 16, 2022); and

b. Adding the following new airworthiness directive:

2023-13-51 Airbus Helicopters: Amendment 39-22512; Docket No. FAA-2023-1506; Project Identifier MCAI-2023-00784-R.

(a) Effective Date

The FAA issued emergency Airworthiness Directive (AD) 2023-13-51 on June 27, 2023 directly to affected owners and operators. As a result of such actual notice, the emergency AD was effective for those owners and operators on the date it was provided. This AD contains the same requirements as that emergency AD and, for those who did not receive actual notice, is effective on August 8, 2023.

(b) Affected ADs

This AD replaces AD 2022-19-08, Amendment 39-22177 (87 FR 56865, September 16, 2022) (AD 2022-19-08).

(c) Applicability

This AD applies to all Airbus Helicopters Model SA341G and SA342J helicopters, certificated in any category.

(d) Subject

Joint Aircraft System Component (JASC) Code: 6410, Tail Rotor Blades.

(e) Unsafe Condition

This AD was prompted by a report of manufacturing defects on multiple tail rotor blades (TRBs) and a subsequent determination that TRBs that have accumulated 500 or more hours time-in-service (TIS), and which were not included in AD 2022-19-08, are also affected by the unsafe condition and must perform the required corrective actions. The FAA is issuing this AD to detect linear indications on a TRB. The unsafe condition, if not addressed, could result in an in-flight TRB loss, unbalance or damage to the tail or other parts of the helicopter, and subsequent loss of control of the helicopter.

(f) Compliance

Comply with this AD within the compliance times specified, unless already done.

(g) Requirements

Except as specified in paragraphs (h) and (i) of this AD: Comply with all required actions and compliance times specified in, and in accordance with, European Union Aviation Safety Agency Emergency AD 2023-0128-E, dated June 26, 2023 (EASA AD 2023-0128-E).

(h) Exceptions to EASA AD 2023-0128-E

(1) Where EASA AD 2023-0128-E requires compliance in terms of flight hours, this AD requires using hours TIS.

(2) Where EASA AD 2023-0128-E refers to its effective date, this AD requires using the effective date of this AD.

(3) Where EASA AD 2023-0128-E refers to the effective date of EASA AD 2022-0169-E (dated August 12, 2022), this AD requires using October 3, 2022 (the effective date of AD 2022-19-08).

(4) Where paragraph (2) of EASA AD 2023-0128-E states, “linear indication,” for the purposes of this AD, a linear indication is any linear indication perpendicular to the grain direction of the blade that is detected regardless of size.

(5) Where paragraph (2) of EASA AD 2023-0128-E states to “accomplish a dye penetrant inspection of the root area of that discrepant part in accordance with the instructions of the ASB,” for this AD replace that text with “perform a fluorescent penetrant inspection (FPI) of the root area of each affected part that has any linear indication (perpendicular to the grain direction of the blade and regardless of size), in accordance with the Accomplishment Instructions, paragraph 3.B.3. of the ASB. This FPI must be accomplished by a Level II or Level III inspector certified in the FAA-acceptable standards for nondestructive inspection personnel.”

Note 1 to paragraph (h)(5): Advisory Circular 65-31B contains examples of FAA-acceptable Level II and Level III qualification standards criteria for inspection personnel doing nondestructive test inspections.

(6) Where paragraph (3) of EASA AD 2023-0128-E specifies to replace any affected part having a confirmed linear indication with a serviceable part; instead, for this AD, if as a result of the action required by paragraph (2) of EASA AD 2023-0128-E, there is any linear indication (perpendicular to the grain direction of the blade and regardless of size), before further flight, remove the affected TRB from service and replace it with a serviceable part as defined in EASA AD 2023-0128-E.

(7) Where the service information referenced in EASA AD 2023-0128-E specifies to discard the TRB if a linear indication is detected, this AD requires, before further flight, removing that part from service.

(8) Where the service information referenced in EASA AD 2023-0128-E specifies to use tooling, this AD allows the use of equivalent tooling.

(9) This AD does not adopt the “Remarks” section of EASA AD 2023-0128-E.

(i) No Reporting Requirement

Although the service information referenced in EASA AD 2023-0128-E specifies to submit certain information to the manufacturer, this AD does not include that requirement.

(j) Credit for Previous Actions

This paragraph provides credit for actions required by paragraph (g) of this AD, if those actions were performed before the effective date of this AD using AD 2022-19-08.

(k) Special Flight Permits

A special flight permit may be issued in accordance with 14 CFR 21.197 and 21.199 to operate the helicopter to a location where the visual inspection or FPI can be performed, provided no passengers are onboard. Special flight permits are prohibited if a linear indication has been detected by an FPI or a visible crack has been detected on a TRB.

(l) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (m) of this AD. Information may be emailed to: 9-AVS-AIR-730-AMOC@faa.gov.

(2) Before using any approved AMOC, notify your appropriate principal inspector, or lacking a principal inspector, the manager of the local flight standards district office/certificate holding district office.

(m) Related Information

For more information about this AD, contact Dan McCully, Aviation Safety Engineer, FAA, 1600 Stewart Avenue, Suite 410, Westbury, NY 11590; telephone (404) 474-5548; email william.mccully@faa.gov.

(n) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency Emergency AD 2023-0128-E, dated June 26, 2023 (EASA AD 2023-0128-E).

(ii) [Reserved]

(3) For EASA AD 2023-0128-E, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at regulations.gov under Docket No. FAA-2023-1506.

(5) You may view this material that is incorporated by reference at the National Archives and Records Administration (NARA). For information on the availability of this material at NARA, email fr.inspection@nara.gov, or go to: www.archives.gov/federal-register/cfr/ibr-locations.html.

Issued on July 18, 2023.
Victor Wicklund,
Deputy Director, Compliance & Airworthiness Division, Aircraft Certification Service.

[FR Doc. 2023-15714 Filed 7-20-23; 4:15 pm]

BILLING CODE 4910-13-P